DEPARTMENT OF AGRICULTURE

Forest Service

National Advisory Committee for Implementation of the National Forest System Land Management Planning Rule

AGENCY: USDA Forest Service.

ACTION: Notice of intent to call for nominations.

SUMMARY: The National Advisory Committee for Implementation of the National Forest System Land Management Planning Rule (Committee) was re-established on February 3, 2014, in the public interest, to continue providing advice and recommendations on the implementation of the National Forest System Land Management Planning Rule (planning rule). Therefore, the Secretary of Agriculture is seeking nominations for individuals to be considered as Committee members. The public is invited to submit nominations for membership. Further information about the Committee is posted on the Planning Rule Advisory Committee Web site: http://www.fs.usda.gov/main/planningrule/committee.

DATES: Written nominations must be received by April 28, 2014. Nominations must contain a completed application packet that includes the nominee's name, resume, and completed form AD-755 (Advisory Committee Membership Background Information). The form AD-755 may be obtained from the following Web site: http://www.fs.usda.gov/Internet/FSE_DOCUMENTS/stelprdb5203568.pdf or via email from Chalonda Jasper at cjasper@fs.fed.us. The package must be sent to the address below.

ADDRESSES: Send nominations and applications to Andre Teague, USDA Forest Service, National Forest System, Mail Stop 1106, 201 14th Street SW., Washington, DC 20025 by express mail or overnight courier service. If sent via the U.S. Postal Service, they must be sent to the following address: U.S. Department of Agriculture, Forest Service, National Forest System, Mail Stop 1106, 1400 Independence Avenue SW., Washington, DC 20250-1106.

FOR FURTHER INFORMATION CONTACT: Tony Tooke, USDA Forest Service, National Forest System, by telephone: 202-205-0824 or by email: ttooke@fs.fed.us. Chris French, USDA Forest Service, National Forest System, Ecosystem Management Coordination, by telephone: 202-205-1022 or by email: cfrench@fs.fed.us. Chalonda Jasper, USDA Forest Service, National Forest System, Planning Specialist, by telephone: 202-260-9400 or by email: cjasper@fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Background

The purpose of the Committee is to provide advice and recommendations on implementation of the planning rule. The current Committee officially transmitted their recommendations to improve the draft planning rule directives to the USDA Forest Service on November 21, 2013. This marked an important accomplishment and point of transition for the Committee. Having finalized consensus recommendations on the draft directives, the Committee now turns its full attention to improving the efficiency and efficacy of implementing the planning rule. The current Committee's membership will expire in June 2014.

The Committee will be asked to perform the following duties or other requests made by the Secretary of Agriculture or the Chief of the Forest Service:

1. Offer ongoing advice related to the implementation directives of the planning rule;

• Collaborating around recommendations for and implementation of the rule, retaining

national policy focus.

2. Offer assistance with outreach efforts;

• Engaging with US Forest Service, including with early adopter forests, and reaching out beyond the US Forest Service and across other Government agencies.

3. Offer overall guidance on planning practices important to implementation of the planning rule;

• Developing guidance on techniques, strategies and potential partners to facilitate outreach and greater understanding to broader public, including youth, local communities, urban constituencies etc.

Advisory Committee Organization

This Committee will be comprised of not more than 21 members who provide balanced and broad representation within each of the following three categories of interests:

1. Up to 7 members who represent one or more of the following:

a. Represent the affected public at-large.

b. Hold State-elected office (or designee).

c. Hold county or local elected office.

d. Represent American Indian Tribes.

e. Represent Youth.

2. Up to 7 members who represent one or more of the following:

a. National, regional, or local environmental organizations.

b. Conservation organizations or watershed associations.

c. Dispersed recreation interests.

d. Archaeological or historical interests.

e. Scientific Community.

3. Up to 7 members who represent one or more of the following:

a. Timber industry.

b. Grazing or other land use permit holders or other private forest landowners.

c. Energy and mineral development.

d. Commercial or recreational hunting and fishing interests.

e. Developed outdoor recreation, off-highway vehicle users, or commercial recreation interests.

No individual who is currently registered as a Federal lobbyist is eligible to serve as a member of the Committee. Members of the Committee serve without compensation, but may be reimbursed for travel expenses while performing duties on behalf of the Committee, subject to approval by the Designated Federal Official (DFO).

The Committee will meet three to six times annually or as often as necessary and at such times as designated by the DFO.

The appointment of members to the Committee will be made by the Secretary of Agriculture. Any individual or organization may nominate one or more qualified persons to serve on the National Advisory Committee for Implementation of the Planning Rule. Individuals may also nominate themselves. To be considered for membership, nominees must submit a:

1. Resume describing qualifications for membership to the Committee;

2. Cover letter with a rationale for serving on the committee and what the applicant can contribute; and

3. Complete form AD-755, Advisory Committee Membership Background Information.

Letters of recommendation are welcome. The form AD-755 may be obtained from the following Web site: http://www.fs.usda.gov/Internet/FSE_DOCUMENTS/stelprdb5203568.pdf or via email from Chalonda Jasper at cjasper@fs.fed.us. All nominations will be vetted by U.S. Department of Agriculture (USDA). The Secretary of Agriculture will appoint committee members to the National Advisory Committee for Implementation of the National Forest System Land Management Planning Rule from the list of qualified applicants.

Equal opportunity practices in accordance with USDA policies will be followed in all appointments to the Committee. To ensure that the recommendations of the Committee take into account the needs of the diverse groups served by USDA, membership shall include to the extent possible, individuals with demonstrated ability to represent minorities, women, and persons with disabilities.

Dated: March 7, 2014.
Malcom A. Shorter,
Deputy Assistant Secretary for Administration, U. S. Department of Agriculture.

[FR Doc. 2014-05467 Filed 3-12-14; 8:45 am]

BILLING CODE 3411-15-P